DEPARTMENT OF COMMERCE

National Oceanic and Atmospheric Administration

RIN 0648-XG028

Marine Mammals; File No. 21238

AGENCY: National Marine Fisheries Service (NMFS), National Oceanic and Atmospheric Administration (NOAA), Commerce.

ACTION: Notice; receipt of application.

SUMMARY: Notice is hereby given that the Center for Whale Research (Responsible Party: Kenneth Balcomb III), 355 Smuggler's Cove Road, Friday Harbor, WA, 98250, has applied in due form for a permit to conduct research on marine mammals.

DATES: Written, telefaxed, or email comments must be received on or before March 29, 2018.

ADDRESSES: The application and related documents are available for review by selecting “Records Open for Public Comment” from the “Features” box on the Applications and Permits for Protected Species (APPS) home page, https://apps.nmfs.noaa.gov, and then selecting File No. 21238 from the list of available applications.

These documents are also available upon written request or by appointment in the Permits and Conservation Division, Office of Protected Resources, NMFS, 1315 East-West Highway, Room 13705, Silver Spring, MD 20910; phone (301) 427-8401; fax (301) 713-0376.

Written comments on this application should be submitted to the Chief, Permits and Conservation Division, at the address listed above. Comments may also be submitted by facsimile to (301) 713-0376, or by email to NMFS.Pr1Comments@noaa.gov. Please include the File No. in the subject line of the email comment.

Those individuals requesting a public hearing should submit a written request to the Chief, Permits and Conservation Division at the address listed above. The request should set forth the specific reasons why a hearing on this application would be appropriate.

FOR FURTHER INFORMATION CONTACT: Shasta McClenahan or Amy Hapeman, (301) 427-8401.

SUPPLEMENTARY INFORMATION: The subject permit is requested under the authority of the Marine Mammal Protection Act of 1972, as amended (MMPA; 16 U.S.C. 1361 et seq.), the regulations governing the taking and importing of marine mammals (50 CFR part 216), the Endangered Species Act of 1973, as amended (ESA; 16 U.S.C. 1531 et seq.), and the regulations governing the taking, importing, and exporting of endangered and threatened species (50 CFR parts 222-226).

The applicant proposes to take 19 species of cetaceans and four species of pinnipeds primarily in the inland marine waters of Washington State, may also include territorial waters up to 200 miles offshore of Oregon, California, and Alaska. The ESA listed species include blue (Balaenoptera musculus), fin (B. physalus), (Megaptera novaeangliae), North Pacific right (Eubalaena japonica), sperm (Physeter macrocephalus), and Southern Resident killer (Orcinus orca) whales, and the Western stock of Steller sea lions (Eumetopias jubatus). The primary objective of the research is to monitor the population size, demographics, range, movement, social structure, health, and body condition of Southern resident killer whales, and secondarily, to monitor the population size and demographics of other marine mammals in the study area. Research activities would include manned and unmanned aerial surveys and vessel surveys for counts, photography, photo-identification, video recording, observation, passive acoustic recording, and opportunistic sampling of sloughed skin, feces, and predation remains. The permit would expire five years after the date of issuance.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of the application to the Marine Mammal Commission and its Committee of Scientific Advisors.

Dated: February 21, 2018.
Julia Harrison,
Chief, Permits and Conservation Division, Office of Protected Resources, National Marine Fisheries Service.

[FR Doc. 2018-03874 Filed 2-26-18; 8:45 am]

BILLING CODE 3510-22-P